DEPARTMENT OF AGRICULTURE

Notice of Request for Extension of a Currently Approved Information Collection

AGENCY: Business and Cooperative Programs, USDA.

ACTION: Proposed collection; Comments requested.

SUMMARY: In accordance with the Paperwork Reduction Act of 1995, this notice announces the Business and Cooperative Programs' intention to request an extension for a currently approved information collection in support of the program for the Business and Industry Loan Program.

DATES: Comments on this notice must be received by February 27, 2012 to be assured of consideration.

FOR FURTHER INFORMATION CONTACT: Brenda Griffin, Business and Industry Division, Business and Cooperative Programs, U.S. Department of Agriculture, Stop 3224, telephone (202) 720-6802, or email brenda.griffin@wdc.usda.gov. The Federal Information Relay service on (800) 887-8339 is available for TDD users.

SUPPLEMENTARY INFORMATION:

Title: Business and Industry Loan Program.

OMB Number: 0570-0014.

Expiration Date of Approval: July 31, 2012.

Type of Request: Extension of a currently approved information collection and recordkeeping requirements.

Abstract: The collected information is submitted to the B&I loan official by loan applicants and commercial lenders for use in making program eligibility, financial feasibility determinations and loan security determinations as required by the Con Act.

Estimate of Burden: Public reporting for this collection of information is estimated to average 3 hours per response.

Respondents: Individuals, rural businesses, for profit businesses, non-profit businesses, Indian tribes, public bodies, cooperatives.

Estimated Number of Respondents: 152.

Estimated Number of Responses per Respondent: 2.

Estimated Number of Responses: 325.

Estimated Total Annual Burden on Respondents: 835 hours.

Copies of this information collection can be obtained from Jeanne Jacobs, Regulations and Paperwork Management Branch, Support Services Division, at (202) 692-0040.

Comments: Comments are invited on: (a) Whether the proposed collection of information is necessary for the proper performance of the functions of Business and Cooperative Programs, including whether the information will have practical utility; (b) the accuracy of Business and Cooperative Programs estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Rural Development, STOP 0742, 1400 Independence Ave. SW., Washington, DC 20250. All responses to this notice will be summarized and included in the request for OMB approval. All comments will also become a matter of public record.

Dated: December 12, 2011.
Judith A. Canales,
Administrator, Rural Business-Cooperative Service.

[FR Doc. 2011-33431 Filed 12-28-11; 8:45 am]

BILLING CODE 3410-XY-P